ENVIRONMENTAL PROTECTION AGENCY

[EPA-HQ-OPPT-2013-0426; FRL-9907-87]

EPA's Design for the Environment Program Logo Redesign; Notice of Public Meeting

AGENCY: Environmental Protection Agency (EPA).

ACTION: Notice.

SUMMARY: EPA is interested in soliciting input regarding the Agency's Design for the Environment (DfE) Program's logo redesign. The Agency will consider the information gathered from this notice and other sources as it selects a logo for the DfE Program that accurately communicates the program's efforts to advance human and environmental health protection through safer products. The Agency will hold two listening sessions via webinars on this topic to give the public the opportunity to provide feedback on draft logo designs.

DATES: The webinars will be held on Monday, August 4, 2014, from 1:00 p.m. to 2:00 p.m., EDT; and Tuesday, August 5, 2014, from 1:00 p.m. to 2:00 p.m., EDT.

To participate in any of the webinars, you must register no later than 11:59 p.m., EDT, on Friday, August 1, 2014.

To request accommodation of a disability, please contact the technical person listed under FOR FURTHER INFORMATION CONTACT, preferably at least 10 days prior to the webinar, to give EPA as much time as possible to process your request.

ADDRESSES: The meetings/listening sessions will be held via webinars. See Unit III. How can I participate in this meeting? in SUPPLEMENTARY INFORMATION. Further information about the webinars can be found on the DfE Web site at http://www.epa.gov/dfe/label.

Registration: To register, please visit http://www.epa.gov/dfe/label. You may also register to participate in a webinar by contacting the technical person listed under FOR FURTHER INFORMATION CONTACT.

FOR FURTHER INFORMATION CONTACT: For technical information contact: Bridget Williams, Economics, Exposure and Technology Division (7406M), Office of Pollution Prevention and Toxics, Environmental Protection Agency, 1200 Pennsylvania Ave. NW., Washington, DC 20460-0001; telephone number: (202) 564-8558; email address: williams.bridget@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

You may be potentially affected by this action if you manufacture, distribute, label, certify, verify, and purchase or use consumer, commercial, or industrial products that may be considered as “green,” “sustainable,” or “environmentally preferable.” Participation in this activity is voluntary. The following list of North American Industrial Classification System (NAICS) codes is not intended to be exhaustive, but rather provides a guide to help readers determine whether this document applies to them. Potentially affected entities may include but are limited to:

• Manufacturing (NAICS codes 31-33).

• Construction (NAICS code 23).

• Wholesale trade (NAICS code 42).

• Retail trade (NAICS codes 44-45).

• Professional, scientific and technical services (NAICS code 54).

• Accommodations and food Services (NAICS code 72).

• Other services, except public administration (NAICS code 81).

• Public administration (NAICS code 92).

B. How can I get copies of this document and other related information?

The docket for this action, identified by docket identification (ID) number EPA-HQ-OPPT-2013-0426, is available at http://www.regulations.gov or at the Office of Pollution Prevention and Toxics Docket (OPPT Docket), Environmental Protection Agency Docket Center (EPA/DC), EPA West Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

Comments: Submit your comments, identified by docket identification (ID) number EPA-HQ-OPPT-2013-0426, by one of the following methods:

• Federal eRulemaking Portal: http://www.regulations.gov. Follow the online instructions for submitting comments.

• Mail: Document Control Office (7407M), Office of Pollution Prevention and Toxics (OPPT), Environmental Protection Agency, 1200 Pennsylvania Ave. NW., Washington, DC 20460-0001.

Hand Delivery: OPPT Document Control Office (DCO), EPA East Bldg., Rm. 6428, 1201 Constitution Ave. NW., Washington, DC. ATTN: Docket ID Number EPA-HQ-OPPT-2013-0426. Please review the visitor instructions and additional information about the docket available at http://www.epa.gov/dockets.

II. Background

EPA is interested in soliciting input regarding the Agency's redesign of the logo that represents the Design for the Environment Program. While EPA does not intend to formally respond to all comments that are submitted, EPA will consider the information gathered from this notice and other sources as it selects a new DfE logo that accurately reflects the program's efforts to advance human and environmental health protection through the labeling of safer products.

The EPA would like the DfE logo redesign to achieve the following:

• Better convey the scientific rigor and benefits of the program (e.g., safer for human health) with a logo that is easier to display on products, materials, and in digital media,

• Increase consumer and I/I purchaser recognition of products bearing EPA's Safer Product Label, and

• Encourage innovation and development of safer chemicals and chemical-based products.

III. How can I participate in this meeting?

To participate in any of the webinars, identified by docket ID number EPA-HQ-OPPT-2013-0426, you must register no later than 11:59 p.m., EDT, on Friday, August 1, 2014. To register, please visit the DfE Web site at http://www.epa.gov/dfe/label. You may also register to participate in a webinar by contacting the technical person listed under FOR FURTHER INFORMATION CONTACT. Do not submit any information in your request that is considered confidential business information (CBI). Upon registration for a webinar, all registered participants will receive information on how to participate in the webinar. For any questions on webinar logistics or registration, consult the technical person listed under FOR FURTHER INFORMATION CONTACT.

List of Subjects

Environmental protection, environmentally preferable products, green products, procurement, safer products, safer chemicals.

Dated: July 7, 2014.
Wendy C. Hamnett,
Director, Office of Pollution Prevention and Toxics.

[FR Doc. 2014-16567 Filed 7-15-14; 8:45 am]

BILLING CODE 6560-50-P